DEPARTMENT OF JUSTICE

Antitrust Division

Notice Pursuant to the National Cooperative Research and Production Act of 1993—Association for the Advancement of Medical Instrumentation

Notice is hereby given that, on September 20, 2004, pursuant to section 6(a) of the National Cooperative Research and Production Act of 1993, 15 U.S.C. 4301 et seq. (“the Act”), Association for the Advancement of Medical Instrumentation (“AAMI”) has filed written notifications simultaneously with the Attorney General and the Federal Trade commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Association for the Advancement of Medical Instrumentation, Arlington, VA. The nature and scope of AAMI's standards development activities are: standards for medical devices and for healthcare products and services.

Dorothy B. Fountain,
Deputy Director of Operations, Antitrust Division.

[FR Doc. 05-147 Filed 1-4-05; 8:45 am]

BILLING CODE 4410-11-M